DEPARTMENT OF ENERGY

Federal Energy Regulatory Commission

Combined Notice of Filings #1

September 30, 2010.

Take notice that the Commission received the following electric corporate filings:

Docket Numbers: EC10-104-000.

Applicants: Dynegy Services Plum Point, LLC, Dynegy Falcon Holdings, Inc., Plum Point Energy Associates, LLC, EIF Plum Point, LLC, John Hancock Life Insurance Company (U.S.A).

Description: Dynegy Falcon Holdings, Inc., Dynegy Services Plum Point, LLC, Plum Point Energy Associates, LLC, EIF Plum Point, LLC, and John Hancock Life Insurance Company (U.S.A.), Joint Application For Approval Under Section 203 of the FPA.

Filed Date: 09/29/2010.

Accession Number: 20100929-5490.

Comment Date: 5 p.m. Eastern Time on Wednesday, October 20, 2010.

Take notice that the Commission received the following electric rate filings:

Docket Numbers: ER10-1977-003.

Applicants: New York Independent System Operator, Inc.

Description: New York Independent System Operator, Inc. submits tariff filing per 35.17(b): Errata to 7/26/10 IBRT Filing to be effective 9/30/2010.

Filed Date: 09/29/2010.

Accession Number: 20100929-5420.

Comment Date: 5 p.m. Eastern Time on Wednesday, October 20, 2010.

Docket Numbers: ER10-2019-001.

Applicants: PPL New Jersey Solar, LLC.

Description: PPL New Jersey Solar, LLC submits tariff filing per 35: PPL New Jersey Solar, LLC Compliance Filing of Baseline Market-Based Rate Tariff to be effective 7/28/2010.

Filed Date: 09/30/2010.

Accession Number: 20100930-5277.

Comment Date: 5 p.m. Eastern Time on Thursday, October 21, 2010.

Docket Numbers: ER10-2256-001.

Applicants: The Trustees of the University of Pennsylvania.

Description: Trustees of the University of Pennsylvania submits a Petition for Acceptance of initial tariff, Waivers and Blanket Authority.

Filed Date: 09/29/2010.

Accession Number: 20100930-0205.

Comment Date: 5 p.m. Eastern Time on Wednesday, October 20, 2010.

Docket Numbers: ER10-3202-000.

Applicants: CenterPoint Energy Houston Electric, LLC.

Description: CenterPoint Energy Houston Electric, LLC submits tariff filing per 35.12: Baseline Filing, TFO Tariff, Sixth Revised Volume No. 1 to be effective 9/29/2010.

Filed Date: 09/29/2010.

Accession Number: 20100929-5405.

Comment Date: 5 p.m. Eastern Time on Wednesday, October 20, 2010.

Docket Numbers: ER10-3203-000.

Applicants: J. Aron & Company.

Description: J. Aron & Company submits tariff filing per 35.12: J. Aron & Company MBR Tariff to be effective 9/29/2010.

Filed Date: 09/29/2010.

Accession Number: 20100929-5408.

Comment Date: 5 p.m. Eastern Time on Wednesday, October 20, 2010.

Docket Numbers: ER10-3204-000.

Applicants: Sempra Energy Solutions LLC.

Description: Sempra Energy Solutions LLC submits tariff filing per 35.12: Sempra Energy Solutions LLC MBR Tariff to be effective 9/29/2010.

Filed Date: 09/29/2010.

Accession Number: 20100929-5409.

Comment Date: 5 p.m. Eastern Time on Wednesday, October 20, 2010.

Docket Numbers: ER10-3205-000.

Applicants: Atlantic Path 15, LLC.

Description: Atlantic Path 15, LLC submits tariff filing per 35.12: Atlantic Path 15 FERC Electric Tariff to be effective 9/29/2010.

Filed Date: 09/29/2010.

Accession Number: 20100929-5410.

Comment Date: 5 p.m. Eastern Time on Wednesday, October 20, 2010.

Docket Numbers: ER10-3206-000.

Applicants: Intercom Energy, Inc.

Description: Intercom Energy, Inc. submits tariff filing per 35.12: Intercom Energy, Inc. Market-Based Rate Tariff to be effective 9/29/2010.

Filed Date: 09/29/2010.

Accession Number: 20100929-5415.

Comment Date: 5 p.m. Eastern Time on Wednesday, October 20, 2010.

Docket Numbers: ER10-3207-000.

Applicants: Southwest Power Pool, Inc.

Description: Southwest Power Pool, Inc. submits tariff filing per 35.13(a)(2)(iii: 1670R1 Associated Electric Cooperative, Inc. IA to be effective 11/29/2010.

Filed Date: 09/29/2010.

Accession Number: 20100929-5427.

Comment Date: 5 p.m. Eastern Time on Wednesday, October 20, 2010.

Docket Numbers: ER10-3208-000.

Applicants: Power Receivable Finance, LLC.

Description: Power Receivable Finance, LLC submits tariff filing per 35.12: Power Receivable Finance, LLC MBR Tariff to be effective 9/29/2010.

Filed Date: 09/29/2010.

Accession Number: 20100929-5428.

Comment Date: 5 p.m. Eastern Time on Wednesday, October 20, 2010.

Docket Numbers: ER10-3209-000.

Applicants: Royal Bank of Canada.

Description: Royal Bank of Canada submits tariff filing per 35.12: Baseline Filing of Market-Based Rate Tariff to be effective 9/29/2010.

Filed Date: 09/29/2010.

Accession Number: 20100929-5436.

Comment Date: 5 p.m. Eastern Time on Wednesday, October 20, 2010.

Docket Numbers: ER10-3210-000.

Applicants: RBC Energy Services LP.

Description: RBC Energy Services LP submits tariff filing per 35.12: Market-Based Rate Tariff to be effective 9/29/2010.

Filed Date: 09/29/2010.

Accession Number: 20100929-5444.

Comment Date: 5 p.m. Eastern Time on Wednesday, October 20, 2010.

Docket Numbers: ER10-3211-000.

Applicants: Sempra Energy Trading LLC.

Description: Sempra Energy Trading LLC submits tariff filing per 35.12: Sempra Energy Trading LLC MBR and Reactive Power Tariffs to be effective 9/29/2010.

Filed Date: 09/29/2010.

Accession Number: 20100929-5448.

Comment Date: 5 p.m. Eastern Time on Wednesday, October 20, 2010.

Docket Numbers: ER10-3212-000.

Applicants: BNP Paribas Energy Trading GP.

Description: BNP Paribas Energy Trading GP submits tariff filing per 35.12: BNP Paribas Energy trading Baseline to be effective 9/29/2010.

Filed Date: 09/29/2010.

Accession Number: 20100929-5478.

Comment Date: 5 p.m. Eastern Time on Wednesday, October 20, 2010.

Docket Numbers: ER10-3216-000; ER10-3217-000.

Applicants: Kentucky Utilities Company, Louisville Gas and Electric Company.

Description: Notice of Cancellation of LG&E OATT Vol 7, KU OATT Vol 4.

Filed Date: 09/29/2010.

Accession Number: 20100929-5492.

Comment Date: 5 p.m. Eastern Time on Wednesday, October 20, 2010.

Docket Numbers: ER10-3218-000.

Applicants: Nevada Power Company.

Description: Application of Nevada Power Company to cancel FERC Electric Tariff, Volume No. 1 as part of the Order No. 714 baseline tariff.

Filed Date: 09/29/2010.

Accession Number: 20100929-5493.

Comment Date: 5 p.m. Eastern Time on Wednesday, October 20, 2010.

Docket Numbers: ER10-3220-000.

Applicants: Electricity Maine, LLC.

Description: Electricity Maine, LLC submits application for authorization to make wholesale sales of energy and capacity at negotiated, market-based rates.

Filed Date: 09/29/2010.

Accession Number: 20100930-0204.

Comment Date: 5 p.m. Eastern Time on Wednesday, October 20, 2010.

Docket Numbers: ER10-3221-000.

Applicants: Freedom Logistics, LLC.

Description: Freedom Logistics, LLC submits an application for authorization to make wholesale sales of energy and capacity at negotiated, market-based rates.

Filed Date: 09/29/2010.

Accession Number: 20100930-0203.

Comment Date: 5 p.m. Eastern Time on Wednesday, October 20, 2010.

Docket Numbers: ER10-3224-000.

Applicants: MidAmerican Energy Company.

Description: MidAmerican Energy Company submits notice of cancellation of FERC Electric Tariff, Original Volume No 5 and the Service Agreements etc.

Filed Date: 09/29/2010.

Accession Number: 20100930-0202.

Comment Date: 5 p.m. Eastern Time on Wednesday, October 20, 2010.

Docket Numbers: ER10-3225-000.

Applicants: MEICO, Inc.

Description: Meico, Inc submits notice canceling their market-based rate tariff, FERC Electric Tariff, Original Volume 1 and a rate schedule designation sheet reflecting the cancellation of the tariff.

Filed Date: 09/29/2010.

Accession Number: 20100930-0201.

Comment Date: 5 p.m. Eastern Time on Wednesday, October 20, 2010.

Docket Numbers: ER10-3234-000.

Applicants: Energy Cooperative Association of Pennsylvania.

Description: Energy Cooperative Association of Pennsylvania submits tariff filing per 35.12: Energy Cooperative Association of Pennsylvania Baseline MBR eTariff Filing to be effective 9/29/2010.

Filed Date: 09/29/2010.

Accession Number: 20100929-5542.

Comment Date: 5 p.m. Eastern Time on Wednesday, October 20, 2010.

Docket Numbers: ER10-3213-000.

Applicants: Southwest Power Pool, Inc.

Description: Southwest Power Pool, Inc. submits an executed service agreement for Firm Point-to-Point Transmission Service with Oklahoma Municipal Power Authority, to be effective 9/1/2010.

Filed Date: 09/30/2010.

Accession Number: 20100930-5005.

Comment Date: 5 p.m. Eastern Time on Thursday, October 21, 2010.

Docket Numbers: ER10-3214-000.

Applicants: PH Glatfelter Company.

Description: PH Glatfelter Company submits Petition for Acceptance of Initial Rate Schedule, Waivers, and Blanket Authority, FERC Tariff No 1, to be effective 9/29/2010.

Filed Date: 09/30/2010.

Accession Number: 20100930-5009.

Comment Date: 5 p.m. Eastern Time on Thursday, October 21, 2010.

Docket Numbers: ER10-3219-000.

Applicants: The Dayton Power and Light Company.

Description: The Dayton Power and Light Company submits tariff filing per 35.13(a)(2)(iii: FERC Rate Schedule No. 52, Village of Versailles to be effective 9/29/2010.

Filed Date: 09/30/2010.

Accession Number: 20100930-5053.

Comment Date: 5 p.m. Eastern Time on Thursday, October 21, 2010.

Docket Numbers: ER10-3222-000.

Applicants: The Dayton Power and Light Company.

Description: The Dayton Power and Light Company submits tariff filing per 35.13(a)(2)(iii: FERC Rate Schedule No. 47, Village of Waynesfield to be effective 9/30/2010.

Filed Date: 09/30/2010.

Accession Number: 20100930-5067.

Comment Date: 5 p.m. Eastern Time on Thursday, October 21, 2010.

Docket Numbers: ER10-3223-000.

Applicants: Indian River Power LLC.

Description: Indian River Power LLC submits tariff filing per 35.12: Indian River Power FERC Electric Tariff 09302010 to be effective 9/30/2010.

Filed Date: 09/30/2010.

Accession Number: 20100930-5068.

Comment Date: 5 p.m. Eastern Time on Thursday, October 21, 2010.

Docket Numbers: ER10-3226-000.

Applicants: Great Bay Hydro Corporation.

Description: Great Bay Hydro Corporation submits tariff filing per 35.12: Baseline eTariff Filing Pursuant to Order No. 714 to be effective 9/30/2010.

Filed Date: 09/30/2010.

Accession Number: 20100930-5070.

Comment Date: 5 p.m. Eastern Time on Thursday, October 21, 2010.

Docket Numbers: ER10-3227-000.

Applicants: Great Bay Power Marketing, Inc.

Description: Great Bay Power Marketing, Inc. submits tariff filing per 35.12: Baseline eTariff Filing Pursuant to Order No. 714 to be effective 9/30/2010.

Filed Date: 09/30/2010.

Accession Number: 20100930-5072.

Comment Date: 5 p.m. Eastern Time on Thursday, October 21, 2010.

Docket Numbers: ER10-3228-000.

Applicants: MidAmerican Energy Company.

Description: MidAmerican Energy Company submits tariff filing per 35: Market-Based Rate Tariff Refiled to be effective 9/30/2010.

Filed Date: 09/30/2010.

Accession Number: 20100930-5074.

Comment Date: 5 p.m. Eastern Time on Thursday, October 21, 2010.

Docket Numbers: ER10-3229-000.

Applicants: Midwest Independent Transmission System Operator, Inc..

Description: Midwest Independent Transmission System Operator, Inc. submits tariff filing per 35: 09-30-10 ARR Load Shifts Filing to be effective 9/1/2010.

Filed Date: 09/30/2010.

Accession Number: 20100930-5075.

Comment Date: 5 p.m. Eastern Time on Thursday, October 21, 2010.

Docket Numbers: ER10-3230-000.

Applicants: Wheelabrator Portsmouth Inc.

Description: Wheelabrator Portsmouth Inc. submits tariff filing per 35.12: Wheelabrator Portsmouth Inc. MBR Tariff to be effective 9/30/2010.

Filed Date: 09/30/2010.

Accession Number: 20100930-5076.

Comment Date: 5 p.m. Eastern Time on Thursday, October 21, 2010.

Docket Numbers: ER10-3231-000.

Applicants: Wheelabrator Ridge Energy Inc.

Description: Wheelabrator Ridge Energy Inc. submits tariff filing per 35.12: Wheelabrator Ridge Energy Inc. MBR Tariff to be effective 9/30/2010.

Filed Date: 09/30/2010.

Accession Number: 20100930-5077.

Comment Date: 5 p.m. Eastern Time on Thursday, October 21, 2010.

Docket Numbers: ER10-3232-000.

Applicants: Wheelabrator Shasta Energy Company Inc.

Description: Wheelabrator Shasta Energy Company Inc. submits tariff filing per 35.12: Wheelabrator Shasta Energy Company, Inc. MBR Tariff to be effective 9/30/2010.

Filed Date: 09/30/2010.

Accession Number: 20100930-5081.

Comment Date: 5 p.m. Eastern Time on Thursday, October 21, 2010.

Docket Numbers: ER10-3233-000.

Applicants: Wheelabrator South Broward Inc.

Description: Wheelabrator South Broward Inc. submits tariff filing per 35.12: Wheelabrator South Broward Inc. MBR Tariff to be effective 9/30/2010.

Filed Date: 09/30/2010.

Accession Number: 20100930-5091.

Comment Date: 5 p.m. Eastern Time on Thursday, October 21, 2010.

Docket Numbers: ER10-3235-000.

Applicants: MidAmerican Energy Company.

Description: MidAmerican Energy Company submits tariff filing per 35: Capacity and Energy Sales Tariff—Baseline filing to be effective 9/30/2010.

Filed Date: 09/30/2010.

Accession Number: 20100930-5094.

Comment Date: 5 p.m. Eastern Time on Thursday, October 21, 2010.

Docket Numbers: ER10-3236-000.

Applicants: Wyoming Colorado Intertie, LLC.

Description: Wyoming Colorado Intertie, LLC submits tariff filing per 35.12: Open Access Transmission Tariff in Compliance with Order No. 714 to be effective 9/30/2010.

Filed Date: 09/30/2010.

Accession Number: 20100930-5103.

Comment Date: 5 p.m. Eastern Time on Thursday, October 21, 2010.

Docket Numbers: ER10-3237-000.

Applicants: Wheelabrator Frackville Energy Company Inc.

Description: Wheelabrator Frackville Energy Company Inc. submits tariff filing per 35.12: Wheelabrator Frackville Energy Company Inc. MBR Tariff to be effective 9/30/2010.

Filed Date: 09/30/2010.

Accession Number: 20100930-5106.

Comment Date: 5 p.m. Eastern Time on Thursday, October 21, 2010.

Docket Numbers: ER10-3238-000.

Applicants: MATL LLP.

Description: MATL LLP submits tariff filing per 35.12: Open Access Transmission Tariff in Compliance with Order No. 714 to be effective 9/30/2010.

Filed Date: 09/30/2010.

Accession Number: 20100930-5108.

Comment Date: 5 p.m. Eastern Time on Thursday, October 21, 2010.

Docket Numbers: ER10-3239-000.

Applicants: Wheelabrator Westchester L.P.

Description: Wheelabrator Westchester L.P. submits tariff filing per 35.12: Wheelabrator Westchester L.P. MBR Tariff to be effective 9/30/2010.

Filed Date: 09/30/2010.

Accession Number: 20100930-5110.

Comment Date: 5 p.m. Eastern Time on Thursday, October 21, 2010.

Docket Numbers: ER10-3240-000.

Applicants: Wheelabrator North Andover Inc.

Description: Wheelabrator North Andover Inc. submits tariff filing per 35.12: Wheelabrator North Andover Inc. MBR Tariff to be effective 9/30/2010.

Filed Date: 09/30/2010.

Accession Number: 20100930-5113.

Comment Date: 5 p.m. Eastern Time on Thursday, October 21, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-25373 Filed 10-7-10; 8:45 am]

BILLING CODE 6717-01-P